DEPARTMENT OF THE INTERIOR

Bureau of Land Management

[16XL LLIDB00100 LF1000000.HT0000 LXSS024D0000 241A 4500087758]

Notice of Public Meeting: Resource Advisory Council (RAC) to the Boise District

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held December 9, 2015, at the Boise District Office, 3948 Development Avenue, Boise, Idaho 83705 beginning at 9:00 a.m. and adjourning at 3:00 p.m. Members of the public are invited to attend. A public comment period will be held from 11:00 a.m. to 11:10 a.m.

FOR FURTHER INFORMATION CONTACT: MJ Byrne, Public Affairs Officer and RAC Coordinator, BLM Boise District, 3948 Development Ave., Boise, Idaho 83705, telephone (208) 384-3393.

SUPPLEMENTARY INFORMATION: The 15-member Council advises the Secretary of the Interior, through the BLM, on a variety of planning and management issues associated with public land management in southwestern Idaho. During the December meeting the Boise District RAC will receive updates on the Bruneau Owyhee Sage-grouse Habitat Project (BOSH) and Tri-State planning process. BLM staff will update RAC members on the travel plan process and upcoming landscape projects. BLM staff will discuss the Soda fire ESR (emergency stabilization and rehabilitation) plan and recent prescribed burns. Agenda items and location may be modified due to changing circumstances. The public may present written or oral comments to members of the Council. At each full RAC meeting, time is provided in the agenda for hearing public comments. Depending on the number of persons wishing to comment and time available, the time for individual oral comments may be limited. Individuals who plan to attend and need special assistance should contact the BLM Coordinator as provided above. Persons who use a telecommunications device for the deaf (TDD) may call the Federal Information Relay Service (FIRS) at 1-800-877-8339 to contact Ms. Byrne. The FIRS is available 24 hours a day, 7 days a week, to leave a message or question with Ms. Byrne. You will receive a reply during normal business hours.

Jenifer L. Arnold,
Acting District Manager.

[FR Doc. 2015-28470 Filed 11-6-15; 8:45 am]

BILLING CODE 4310-GG-P